DEPARTMENT OF ENERGY

Federal Energy Regulatory Commission

18 CFR Part 375

[Docket No. RM10-1-000; Order No. 736]

Delegations to Office of Energy Policy and Innovation

May 28, 2010.

AGENCY: Federal Energy Regulatory Commission, DOE.

ACTION: Final rule.

SUMMARY: This final rule revises the Commission's regulations to delegate authority to the newly established Office of Energy Policy and Innovation to allow that office to process routine, non-controversial matters efficiently.

DATES: Effective Date: This rule will become effective June 9, 2010.

FOR FURTHER INFORMATION CONTACT: Wilbur Miller, 888 First Street, NE., Washington, DC 20426, (202) 502-8953, wilbur.miller@ferc.gov.

SUPPLEMENTARY INFORMATION:

Before Commissioners: Jon Wellinghoff, Chairman; Marc Spitzer, Philip D. Moeller, and John R. Norris.

Final Rule

I. Discussion

1. On April 16, 2009, the Commission announced the creation of the Office of Energy Policy and Innovation (OEPI) to provide leadership in the development and formulation of policies and regulations to address emerging issues affecting wholesale and interstate energy markets. To enable OEPI to carry out its functions as efficiently as possible, this Final Rule adds a new section to the Commission's regulations, 18 CFR 375.315, to delegate to OEPI the authority necessary to process routine matters. These delegations are intended to apply to uncontested, non-controversial matters.

II. Information Collection Statement

2. The Office of Management and Budget's (OMB) regulations require that OMB approve certain information collection requirements imposed by agency rule.¹ This Final Rule does not contain information reporting requirements and is not subject to OMB approval.

¹ 5 CFR part 1320.

III. Environmental Analysis

3. The Commission is required to prepare an Environmental Assessment or an Environmental Impact Statement for any action that may have a significant adverse effect on the quality of the human environment.² Issuance of this Final Rule does not represent a major federal action having a significant adverse effect on the quality of the human environment under the Commission's regulations implementing the National Environmental Policy Act. Part 380 of the Commission's regulations lists exemptions to the requirement to draft an Environmental Analysis or Environmental Impact Statement. Included is an exemption for procedural, ministerial or internal administrative actions.³ This rulemaking is exempt under that provision.

² Regulations Implementing the National Environmental Policy Act, Order No. 486, FERC Stats. & Regs. ¶ 30,783 (1987).

³ 18 CFR 380.4(1) and (5).

IV. Regulatory Flexibility Act

4. The Regulatory Flexibility Act of 1980 (RFA) ⁴ generally requires a description and analysis of final rules that will have significant economic impact on a substantial number of small entities. This final rule concerns matters of internal agency procedure and the Commission therefore certifies that it will not have such an impact. An analysis under the RFA is not required.

⁴ 5 U.S.C. 601-12.

V. Document Availability

5. In addition to publishing the full text of this document in the Federal Register, the Commission provides all interested persons an opportunity to view and/or print the contents of this document via the Internet through the Commission's Home Page (http://www.ferc.gov) and in the Commission's Public Reference Room during normal business hours (8:30 a.m. to 5 p.m. Eastern time) at 888 First Street, NE., Room 2A, Washington, DC 20426.

6. From the Commission's Home Page on the Internet, this information is available on eLibrary. The full text of this document is available on eLibrary in PDF and Microsoft Word format for viewing, printing, and/or downloading. To access this document in eLibrary, type the docket number excluding the last three digits of this document in the docket number field.

7. User assistance is available for eLibrary and the Commission's Web site during normal business hours from FERC Online Support at 202-502-6652 (toll free at 1-866-208-3676) or e-mail at ferconlinesupport@ferc.gov, or the Public Reference Room at (202) 502-8371, TTY (202) 502-8659. E-mail the Public Reference Room at public.referenceroom@ferc.gov.

VI. Effective Date and Congressional Notification

8. These regulations are effective immediately upon publication in the Federal Register. In accordance with 5 U.S.C. 553(d)(3), the Commission finds that good cause exists to make this Final Rule effective immediately. It concerns only matters of internal operations and will not affect the rights of persons appearing before the Commission. There is therefore no reason to make this rule effective at a later time.

9. The provisions of 5 U.S.C. 801 regarding Congressional review of Final Rules do not apply to this Final Rule, because this Final Rule concerns agency procedure and practice and will not substantially affect the rights of non-agency parties.

10. The Commission is issuing this as a Final Rule without a period for public comment. Under 5 U.S.C. 553(b), notice and comment procedures are unnecessary where a rulemaking concerns only agency procedure and practice, or where the agency finds that notice and comment is unnecessary. This rule concerns only matters of internal agency procedure and will not significantly affect regulated entities or the general public.

List of Subjects in 18 CFR Part 375

Authority delegations (government agencies), Seals and insignia, Sunshine Act.

By the Commission.
Nathaniel J. Davis, Sr.,
Deputy Secretary.

In consideration of the foregoing, the Commission amends part 375, chapter I, title 18, Code of Federal Regulations, as follows.

PART 375—THE COMMISSION

1. The authority citation for part 375 continues to read as follows:

Authority: 5 U.S.C. 551-557; 15 U.S.C. 717-717w, 3301-3432; 16 U.S.C. 791-825r, 2601-2645; 42 U.S.C. 7101-7352, 16451-16463.

2. Add new § 375.315 to read as follows:

§ 375.315 Delegations to the Director of the Office of Energy Policy and Innovation.

The Commission authorizes the Director or the Director's designee to:

(a) Take appropriate action on:

(1) Any notice of intervention or motion to intervene, filed in an uncontested proceeding processed by the Office of Energy Policy and Innovation; and

(2) Applications for extensions of time to file required filings, reports, data and information and to perform other acts required at or within a specific time by any rule, regulation, license, permit, certificate, or order by the Commission.

(b) Undertake the following actions:

(1) Issue reports for public information purposes. Any report issued without Commission approval must:

(i) Be of a noncontroversial nature, and

(ii) Contain the statement, “This report does not necessarily reflect the views of the Commission,” in bold face type on the cover;

(2) Issue and sign requests for additional information regarding applications, filings, reports and data processed by the Office of Energy Policy and Innovation; and

(3) Accept for filing, data and reports required by Commission regulations, rules, or orders, or presiding officers' initial decisions upon which the Commission has taken no further action, if such filings are in compliance with such regulations, rules, orders or decisions and, when appropriate, notify the filing party of such acceptance.

[FR Doc. 2010-13632 Filed 6-8-10; 8:45 am]

BILLING CODE 6717-01-P